DEPARTMENT OF HOMELAND SECURITY

Federal Emergency Management Agency

[Docket ID FEMA-2017-0002; Internal Agency Docket No. FEMA-B-1767]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Dated: November 29, 2017.
Roy E. Wright,
Deputy Associate Administrator for Insurance and Mitigation, Department of Homeland Security, Federal Emergency Management Agency.

State and county | Location and case No. | Chief executive officer of community | Community map repository | Online location of letter of map revision | Date of modification | Community No.
Arkansas:
Benton | City of Centerton (17-06-1281P) | The Honorable Bill Edwards, Mayor, City of Centerton, P.O. Box 208, Centerton, AR 72719 | City Hall, 290 Main Street, Centerton, AR 72719 | https://msc.fema.gov/portal/advanceSearch | Jan. 29, 2018 | 050399
Benton | Unincorporated areas of Benton County (17-06-1281P) | The Honorable Barry Moehring, Benton County Judge, 215 East Central Avenue, Bentonville, AR 72712 | Benton County Development and Building Department, 905 Northwest 8th Street, Bentonville, AR 72712 | https://msc.fema.gov/portal/advanceSearch | Jan. 29, 2018 | 050419
Colorado:
Douglas | Town of Castle Rock (17-08-0610P) | The Honorable Jennifer Green, Mayor, Town of Castle Rock, 100 North Wilcox Street, Castle Rock, CO 80104 | Water Department, 175 Kellogg Court, Castle Rock, CO 80109 | https://msc.fema.gov/portal/advanceSearch | Feb. 16, 2018 | 080050
Douglas | Unincorporated areas of Douglas County (17-08-0610P) | The Honorable Roger Partridge, Chairman, Douglas County Board of Commissioners, 100 3rd Street, Castle Rock, CO 80104 | Douglas County Public Works Department, 100 3rd Street, Castle Rock, CO 80104 | https://msc.fema.gov/portal/advanceSearch | Feb. 16, 2018 | 080049
El Paso | City of Fountain (17-08-0459P) | Mr. Scott Trainor, Manager, City of Fountain, 116 South Main Street, Fountain, CO 80817 | Planning Department, 116 South Main Street, Fountain, CO 80817 | https://msc.fema.gov/portal/advanceSearch | Mar. 2, 2018 | 080061
El Paso | Unincorporated areas of El Paso County (17-08-0459P) | The Honorable Darryl Glenn, President, El Paso County Board of Commissioners, 200 South Cascade Avenue, Suite 100, Colorado Springs, CO 80903 | El Paso County Planning and Community Development Department, 2880 International Circle, Suite 110, Colorado Springs, CO 80910 | https://msc.fema.gov/portal/advanceSearch | Mar. 2, 2018 | 080059
Larimer | City of Fort Collins (16-08-1356P) | The Honorable Wade Troxell, Mayor, City of Fort Collins, P.O. Box 580, Fort Collins, CO 80522 | Stormwater Utilities Department, 700 Wood Street, Fort Collins, CO 80521 | https://msc.fema.gov/portal/advanceSearch | Feb. 26, 2018 | 080102
Florida:
Broward | City of Miramar (17-04-7683X) | The Honorable Wayne M. Messam, Mayor, City of Miramar, 2300 Civic Center Place, Miramar, FL 33025 | Public Works Department, 13900 Pembroke Road, Building L, Miramar, FL 33025 | https://msc.fema.gov/portal/advanceSearch | Feb. 22, 2018 | 120048
Charlotte | City of Punta Gorda (17-04-4542P) | The Honorable Rachel Keesling, Mayor, City of Punta Gorda, 326 West Marion Avenue, Punta Gorda, FL 33950 | City Hall, 326 West Marion Avenue, Punta Gorda, FL 33950 | https://msc.fema.gov/portal/advanceSearch | Feb. 14, 2018 | 120062
Charlotte | Unincorporated areas of Charlotte County (17-04-6576P) | The Honorable Bill Truex, Chairman, Charlotte County Board of Commissioners, 18500 Murdock Circle, Suite 536, Port Charlotte, FL 33948 | Charlotte County Community Development Department, 18500 Murdock Circle, Port Charlotte, FL 33948 | https://msc.fema.gov/portal/advanceSearch | Feb. 28, 2018 | 120061
Hillsborough | City of Tampa (17-04-5064P) | The Honorable Bob Buckhorn, Mayor, City of Tampa, 306 East Jackson Street, Tampa, FL 33602 | Development Services Department, 1400 North Boulevard, Tampa, FL 33607 | https://msc.fema.gov/portal/advanceSearch | Mar. 5, 2018 | 120114
Lee | City of Cape Coral (17-04-5713P) | The Honorable Marni Sawicki, Mayor, City of Cape Coral, 1015 Cultural Park Boulevard, Cape Coral, FL 33990 | Department of Community Development, 1015 Cultural Park Boulevard, Cape Coral, FL 33990 | https://msc.fema.gov/portal/advanceSearch | Feb. 23, 2018 | 125095
Lee | City of Sanibel (17-04-5722P) | The Honorable Kevin Ruane, Mayor, City of Sanibel, 800 Dunlop Road, Sanibel, FL 33957 | Planning and Code Enforcement Department, 800 Dunlop Road, Sanibel, FL 33957 | https://msc.fema.gov/portal/advanceSearch | Feb. 28, 2018 | 120402
Lee | City of Sanibel (17-04-7198P) | The Honorable Kevin Ruane, Mayor, City of Sanibel, 800 Dunlop Road, Sanibel, FL 33957 | Planning and Code Enforcement Department, 800 Dunlop Road, Sanibel, FL 33957 | https://msc.fema.gov/portal/advanceSearch | Mar. 6, 2018 | 120402
Lee | Unincorporated areas of Lee County (17-04-5713P) | The Honorable John Manning, Chairman, Lee County Board of Commissioners, P.O. Box 398, Fort Myers, FL 33902 | Lee County Community Development Department, 1500 Monroe Street, Fort Myers, FL 33901 | https://msc.fema.gov/portal/advanceSearch | Feb. 23, 2018 | 125124
Manatee | Unincorporated areas of Manatee County (17-04-1328P) | The Honorable Betsy Benac, Chair, Manatee County Board of Commissioners, P.O. Box 1000, Bradenton, FL 34206 | Manatee County Building and Development Services Department, 1112 Manatee Avenue West, Bradenton, FL 34205 | https://msc.fema.gov/portal/advanceSearch | Feb. 20, 2018 | 120153
Monroe | City of Marathon (17-04-6616P) | The Honorable Dan Zieg, Mayor, City of Marathon, 9805 Overseas Highway, Marathon, FL 33050 | Planning Department, 9805 Overseas Highway, Marathon, FL 33050 | https://msc.fema.gov/portal/advanceSearch | Feb. 20, 2018 | 120681
Monroe | City of Marathon (17-04-6938P) | The Honorable Dan Zieg, Mayor, City of Marathon, 9805 Overseas Highway, Marathon, FL 33050 | Planning Department, 9805 Overseas Highway, Marathon, FL 33050 | https://msc.fema.gov/portal/advanceSearch | Mar. 2, 2018 | 120681
Monroe | Unincorporated areas of Monroe County (17-04-4988P) | The Honorable George Neugent, Mayor, Monroe County Board of Commissioners, 25 Ships Way, Big Pine Key, FL 33043 | Monroe County Building Department, 2798 Overseas Highway, Suite 300, Marathon, FL 33040 | https://msc.fema.gov/portal/advanceSearch | Feb. 8, 2018 | 125129
Monroe | Unincorporated areas of Monroe County (17-04-5954P) | The Honorable George Neugent, Mayor, Monroe County Board of Commissioners, 25 Ships Way, Big Pine Key, FL 33043 | Monroe County Building Department, 2798 Overseas Highway, Suite 300, Marathon, FL 33040 | https://msc.fema.gov/portal/advanceSearch | Feb. 8, 2018 | 125129
Monroe | Unincorporated areas of Monroe County (17-04-6030P) | The Honorable George Neugent, Mayor, Monroe County Board of Commissioners, 25 Ships Way, Big Pine Key, FL 33043 | Monroe County Building Department, 2798 Overseas Highway, Suite 300, Marathon, FL 33040 | https://msc.fema.gov/portal/advanceSearch | Feb. 8, 2018 | 125129
Monroe | Unincorporated areas of Monroe County (17-04-6434P) | The Honorable George Neugent, Mayor, Monroe County Board of Commissioners, 25 Ships Way, Big Pine Key, FL 33043 | Monroe County Building Department, 2798 Overseas Highway, Suite 300, Marathon, FL 33040 | https://msc.fema.gov/portal/advanceSearch | Feb. 13, 2018 | 125129
Pasco | Unincorporated areas of Pasco County (17-04-2409P) | The Honorable Mike Moore, Chairman, Pasco County Board of Commissioners, 8731 Citizens Drive, New Port Richey, FL 34654 | Pasco County Building and Construction Services Department, 8731 Citizens Drive, New Port Richey, FL 34654 | https://msc.fema.gov/portal/advanceSearch | Feb. 22, 2018 | 120230
Pinellas | City of Treasure Island (17-04-5547P) | The Honorable Robert Minning, Mayor, City of Treasure Island, 120 108th Avenue, Treasure Island, FL 33706 | Community Improvement Department, 120 108th Avenue, Treasure Island, FL 33706 | https://msc.fema.gov/portal/advanceSearch | Feb. 20, 2018 | 125153
Pinellas | Town of Redington Beach (17-04-4168P) | The Honorable James Simons, Mayor, Town of Redington Beach Commission, 105 164th Avenue, Redington Beach, FL 33708 | Public Works Department, 105 164th Avenue, Redington Beach, FL 33708 | https://msc.fema.gov/portal/advanceSearch | Feb. 12, 2018 | 125140
Sarasota | City of Sarasota (17-04-6361P) | The Honorable Shelli Freeland Eddie, Mayor, City of Sarasota, 1565 1st Street, Room 101, Sarasota, FL 34236 | Neighborhood and Development Services Development, 1565 1st Street, Sarasota, FL 34236 | https://msc.fema.gov/portal/advanceSearch | Feb. 20, 2018 | 125150
Seminole | City of Casselberry (17-04-5310P) | The Honorable Charlene Glancy, Mayor, City of Casselberry, 95 Triplet Lake Drive, Casselberry, FL 32707 | City Hall, 95 Triplet Lake Drive, Casselberry, FL 32707 | https://msc.fema.gov/portal/advanceSearch | Mar. 1, 2018 | 120291
Massachusetts:
Middlesex | Town of Bedford (17-01-1899P) | The Honorable Margot R. Fleischman, Chair, Town of Bedford Board of Selectmen, 10 Mudge Way, Bedford, MA 01730 | Code Enforcement Department, 10 Mudge Way, Bedford, MA 01730 | https://msc.fema.gov/portal/advanceSearch | Feb. 9, 2018 | 255209
Middlesex | Town of Billerica (17-01-1899P) | Mr. John C. Curran, Manager, Town of Billerica, 365 Boston Road, Billerica, MA 01821 | Town Hall, 365 Boston Road, Billerica, MA 01821 | https://msc.fema.gov/portal/advanceSearch | Feb. 9, 2018 | 250183
Middlesex | Town of Carlisle (17-01-1899P) | The Honorable Luke Ascolillo, Chairman, Town of Carlisle Board of Selectmen, 66 Westford Street, Carlisle, MA 01741 | Town Hall, 66 Westford Street, Carlisle, MA 01741 | https://msc.fema.gov/portal/advanceSearch | Feb. 9, 2018 | 250187
Middlesex | Town of Concord (17-01-1899P) | Mr. Christopher Whelan, Manager, Town of Concord, 22 Monument Square, Concord, MA 01742 | Department of Public Works, 133 Keyes Road, Concord, MA 01742 | https://msc.fema.gov/portal/advanceSearch | Feb. 9, 2018 | 250189
Montana:
Powell | City of Deer Lodge (17-08-0193P) | The Honorable Zane Cozby, Mayor, City of Deer Lodge, 300 Main Street, Deer Lodge, MT 59722 | City Hall, 300 Main Street, Deer Lodge, MT 59722 | https://msc.fema.gov/portal/advanceSearch | Feb. 1, 2018 | 300060
Powell | Unincorporated areas of Powell County (17-08-0193P) | The Honorable Daniel Sager, Chairman, Powell County Board of Commissioners, 409 Missouri Avenue, Suite 202, Deer Lodge, MT 59722 | Powell County Planning Department, 409 Missouri Avenue, Suite 202, Deer Lodge, MT 59722 | https://msc.fema.gov/portal/advanceSearch | Feb. 1, 2018 | 300059
New Mexico: Bernalillo | Unincorporated areas of Bernalillo County (17-06-1386P) | Ms. Julie Morgas Baca, Bernalillo County Manager, 1 Civic Plaza Northwest, Albuquerque, NM 87102 | Bernalillo County Public Works Division, 2400 Broadway Boulevard Southeast, Albuquerque, NM 87102 | https://msc.fema.gov/portal/advanceSearch | Feb. 21, 2018 | 350001
Pennsylvania:
Berks | Borough of Mohnton (17-03-1918P) | The Honorable Gary D. Kraft, Mayor, Borough of Mohnton, 21 O'Neil Street, Mohnton, PA 19540 | Borough Hall, 21 O'Neil Street, Mohnton, PA 19540 | https://msc.fema.gov/portal/advanceSearch | Feb. 26, 2018 | 420142
Berks | Township of Cumru (17-03-1918P) | The Honorable Ruth O'Leary, President, Township of Cumru Board of Commissioners, 1775 Welsh Road, Mohnton, PA 19540 | Township Hall, 1775 Welsh Road, Mohnton, PA 19540 | https://msc.fema.gov/portal/advanceSearch | Feb. 26, 2018 | 420130
South Carolina:
Charleston | Town of Mount Pleasant (17-04-6335P) | The Honorable Linda Page, Mayor, Town of Mount Pleasant, 100 Ann Edwards Lane, Mount Pleasant, SC 29464 | Planning Department, 100 Ann Edwards Lane, Mount Pleasant, SC 29464 | https://msc.fema.gov/portal/advanceSearch | Feb. 16, 2018 | 455417
Charleston | Unincorporated areas of Charleston County (17-04-6335P) | The Honorable A. Victor Rawl, Chairman, Charleston County Council, 4045 Bridge View Drive, Suite B254, North Charleston, SC 29405 | Charleston County Building Inspection Services Department, 4045 Bridge View Drive, Suite A311, North Charleston, SC 29405 | https://msc.fema.gov/portal/advanceSearch | Feb. 16, 2018 | 455413
Dorchester | Unincorporated areas of Dorchester County (16-04-6961P) | The Honorable Jay Byars, Chairman, Dorchester County Council, 500 North Main Street, Summerville, SC 29483 | Dorchester County Public Works Department, 500 North Main Street, Summerville, SC 29483 | https://msc.fema.gov/portal/advanceSearch | Feb. 8, 2018 | 450068
Richland | City of Columbia (17-04-2846P) | The Honorable Stephen K. Benjamin, Mayor, City of Columbia, P.O. Box 147, Columbia, SC 29217 | Engineering Department, 1136 Washington Street, Columbia, SC 29210 | https://msc.fema.gov/portal/advanceSearch | Mar. 5, 2018 | 450172
Richland | Unincorporated areas of Richland County (17-04-2846P) | The Honorable Joyce Dickerson, Chair, Richland County Council, 1728 Emerald Valley Road, Columbia, SC 29210 | Richland County Development Services Department, 2020 Hampton Street, 1st Floor, Columbia, SC 29204 | https://msc.fema.gov/portal/advanceSearch | Mar. 5, 2018 | 450170
Texas:
Bexar | Unincorporated areas of Bexar County (17-06-3197P) | The Honorable Nelson W. Wolff, Bexar County Judge, 101 West Nueva Street, 10th Floor, San Antonio, TX 78205 | Bexar County Public Works Department, 233 North Pecos-La Trinidad Street, Suite 420, San Antonio, TX 78207 | https://msc.fema.gov/portal/advanceSearch | Feb. 9, 2018 | 480035
Collin | City of Frisco (17-06-2725P) | The Honorable Jeff Cheney, Mayor, City of Frisco, 6101 Frisco Square Boulevard, Frisco, TX 75034 | Engineering Services Department, 6101 Frisco Square Boulevard, Frisco, TX 75034 | https://msc.fema.gov/portal/advanceSearch | Feb. 12, 2018 | 480134
Collin | City of McKinney (17-06-2044P) | The Honorable George Fuller, Mayor, City of McKinney, P.O. Box 517, McKinney, TX 75070 | Engineering Department, 221 North Tennessee Street, McKinney, TX 75069 | https://msc.fema.gov/portal/advanceSearch | Feb. 26, 2018 | 480135
Collin | City of Melissa (17-06-2044P) | The Honorable Reed Greer, Mayor, City of Melissa, 3411 Barker Avenue, Melissa, TX 75454 | City Hall, 3411 Barker Avenue, Melissa, TX 75454 | https://msc.fema.gov/portal/advanceSearch | Feb. 26, 2018 | 481626
Collin | Unincorporated areas of Collin County (17-06-2044P) | The Honorable Keith Self, Collin County Judge, 2300 Bloomdale Road, Suite 4192, McKinney, TX 75071 | Collin County Engineering Department, 4690 Community Avenue, Suite 200, McKinney, TX 75071 | https://msc.fema.gov/portal/advanceSearch | Feb. 26, 2018 | 480130
Dallas | City of Dallas (17-06-2366P) | The Honorable Michael S. Rawlings, Mayor, City of Dallas, 1500 Marilla Street, Suite 5EN, Dallas, TX 75201 | Mobility and Street Services Department, 320 East Jefferson Boulevard, Suite 307, Dallas, TX 75203 | https://msc.fema.gov/portal/advanceSearch | Feb. 20, 2018 | 480171
Dallas | City of Hutchins (17-06-1464P) | The Honorable Mario Vasquez, Mayor, City of Hutchins, P.O. Box 500, Hutchins, TX 75141 | City Hall, 321 North Main Street, Hutchins, TX 75141 | https://msc.fema.gov/portal/advanceSearch | Feb. 20, 2018 | 480179
Dallas | Unincorporated areas of Dallas County (17-06-1464P) | The Honorable Clay Jenkins, Dallas County Judge, 411 Elm Street, 2nd Floor, Dallas, TX 75202 | Department of Public Works, 411 Elm Street, 4th Floor, Dallas, TX 75202 | https://msc.fema.gov/portal/advanceSearch | Feb. 20, 2018 | 480165
Denton | Town of Bartonville (17-06-1156P) | The Honorable Bill Scherer, Mayor, Town of Bartonville, 1941 East Jeter Road, Bartonville, TX 76226 | Teague Nall and Perkins, Inc., 1517 Centre Place Drive, Suite 320, Denton, TX 76205 | https://msc.fema.gov/portal/advanceSearch | Feb. 9, 2018 | 481501
McLennan | City of Robinson (17-06-1462P) | The Honorable Bert Echterling, Mayor, City of Robinson, 111 West Lyndale Drive, Robinson, TX 76706 | City Hall, 111 West Lyndale Drive, Robinson, TX 76706 | https://msc.fema.gov/portal/advanceSearch | Feb. 5, 2018 | 480460
Wilson | City of Floresville (17-06-3071P) | The Honorable Cecelia Gonzalez-Dippel, Mayor, City of Floresville, 1120 D Street, Floresville, TX 78114 | City Hall, 1120 D Street, Floresville, TX 78114 | https://msc.fema.gov/portal/advanceSearch | Feb. 15, 2018 | 480671
Utah: Washington | City of Washington (17-08-0585P) | The Honorable Ken Neilson, Mayor, City of Washington, 111 North 100 East, Washington, UT 84780 | Public Works Department, 1305 East Washington Dam Road, Washington, UT 84780 | https://msc.fema.gov/portal/advanceSearch | Feb. 13, 2018 | 490182
Virginia:
Gloucester | Unincorporated areas of Gloucester County (17-03-0659P) | The Honorable Phillip Bazzani, Chairman, Gloucester County Board of Supervisors, P.O. Box 329, Gloucester, VA 23061 | Gloucester County Building Inspections Department, 6489 Main Street, Suite 247, Gloucester, VA 23061 | https://msc.fema.gov/portal/advanceSearch | Feb. 9, 2018 | 510071
Loudoun | Town of Lovettsville (17-03-1213P) | The Honorable Robert Zoldos II, Mayor, Town of Lovettsville, P.O. Box 209, Lovettsville, VA 20180 | Department of Public Works, 6 East Pennsylvania Avenue, Lovettsville, VA 20180 | https://msc.fema.gov/portal/advanceSearch | Mar. 2, 2018 | 510259
Loudoun | Unincorporated areas of Loudoun County (17-03-1213P) | The Honorable Phyllis J. Randall, Chair, Loudoun County Board of Supervisors, P.O. Box 7000, Leesburg, VA 20177 | Loudoun County Department of Public Works, 1 Harrison Street, Leesburg, VA 20177 | https://msc.fema.gov/portal/advanceSearch | Mar. 2, 2018 | 510090
Prince William | City of Manassas Park (17-03-0746P) | Mr. Laszlo A. Palko, Manager, City of Manassas Park, 1 Park Center Court, Manassas Park, VA 20111 | City Hall, 1 Park Center Court, Manassas Park, VA 20111 | https://msc.fema.gov/portal/advanceSearch | Feb. 15, 2018 | 510123
Prince William | Unincorporated areas of Prince William County (17-03-0746P) | Mr. Christopher E. Martino, Prince William County Executive, 1 County Complex Court, Woodbridge, VA 22192 | Prince William County Department of Public Works, 5 County Complex Court, Woodbridge, VA 22192 | https://msc.fema.gov/portal/advanceSearch | Feb. 15, 2018 | 510119
West Virginia: Jackson | Unincorporated areas of Jackson County (17-03-2040P) | The Honorable Dick Waybright, President, Jackson County Commission, P.O. Box 800, Ripley, WV 25271 | Jackson County Emergency Services Department, 100 North Maple Street, Ripley, WV 25271 | https://msc.fema.gov/portal/advanceSearch | Feb. 20, 2018 | 540063

[FR Doc. 2017-26813 Filed 12-12-17; 8:45 am]

BILLING CODE 9110-12-P